DEPARTMENT OF ENERGY

Federal Energy Regulatory Commission

Combined Notice of Filings #1

Take notice that the Commission received the following electric corporate filings:

Docket Numbers: EC17-136-000.

Applicants: ITC Midwest LLC.

Description: Application of ITC Midwest LLC for Approval of Acquisition of Assets Pursuant to Section 203 of the FPA.

Filed Date: 7/6/17.

Accession Number: 20170706-5109.

Comments Due: 5 p.m. ET 7/27/17.

Docket Numbers: EC17-137-000.

Applicants: Luz Solar Partners Ltd., III, Luz Solar Partners Ltd., IV.

Description: Application of Luz Solar Partners Ltd., III, et al. for Authorization for Disposition of Jurisdictional Facilities and Request for Waivers and Expedited Action.

Filed Date: 7/6/17.

Accession Number: 20170706-5138.

Comments Due: 5 p.m. ET 7/27/17.

Take notice that the Commission received the following electric rate filings:

Docket Numbers: ER10-1838-009; ER10-1852-018; ER10-1857-008; ER10-1899-009; ER10-1915-008; ER10-1932-008; ER10-1935-008; ER10-1951-011; ER10-1963-008; ER10-1967-009; ER10-1968-009; ER10-1973-008; ER10-1974-019; ER10-1975-020; ER10-1990-009; ER10-1993-009; ER11-4462-027; ER13-752-008; ER14-1630-006; ER15-2601-002; ER15-2602-002; ER17-838-002.

Applicants: Backbone Mountain Windpower LLC, Bayswater Peaking Facility, LLC, Energy Storage Holdings, LLC, FPL Energy Cape, LLC, FPL Energy Illinois Wind, LLC, FPL Energy Wyman, LLC, FPL Energy Wyman IV, LLC, Florida Power & Light Company, Green Mountain Storage, LLC, Jamaica Bay Peaking Facility, LLC, Manuta Creek Solar, LLC, Meyersdale Storage, LLC, Meyersdale Windpower LLC, Mill Run Windpower, LLC, NEPM II, LLC, NextEra Energy Marketing, LLC, NextEra Energy SeaBrook, LLC, NextEra Energy Services Massachusetts, LLC, North Jersey Energy Associates, A Limited Partnership, Northeast Energy Associates, A Limited Partnership, Somerset Windpower, LLC, Waymart Wind Farm, L.P.

Description: Northeast Region Triennial Market Power Update of the NextEra Companies.

Filed Date: 6/30/17.

Accession Number: 20170630-5478.

Comments Due: 5 p.m. ET 8/29/17.

Docket Numbers: ER10-2141-017; ER16-2187-002.

Applicants: Grand Ridge Energy V LLC, Grand Ridge Energy Storage LLC.

Description: Triennial Report of Grand Ridge Energy V LLC, et al.

Filed Date: 6/30/17.

Accession Number: 20170630-5453.

Comments Due: 5 p.m. ET 8/29/17.

Docket Numbers: ER10-2739-015; ER10-1631-008; ER10-1854-008; ER10-2743-010; ER10-2744-009; ER10-2751-010; ER10-2755-013; ER11-3320-008; ER11-3321-007; ER13-2316-006; ER14-19-007; ER14-2548-005; ER16-1652-003; ER16-1732-002; ER16-2405-002; ER16-2406-002; ER17-1946-001; ER17-1947-001; ER17-1948-001; ER17-989-001; ER17-990-001; ER17-991-001; ER17-992-001; ER17-993-001.

Applicants: LS Power Marketing, LLC, Aurora Generation, LLC, Bath County Energy, LLC, Bluegrass Generation Company, L.L.C., Chambersburg Energy, LLC, Doswell Limited Partnership, Helix Ironwood, LLC, Helix Maine Wind Development, LLC, Helix Ravenswood, LLC, Hunlock Energy, LLC, Las Vegas Power Company, LLC, LifeEnergy, LLC, LSP University Park, LLC, Ocean State Power LLC, Renaissance Power, L.L.C., Riverside Generating Company, L.L.C., Rockford Power, LLC, Rockford Power II, LLC, Seneca Generation, LLC, Springdale Energy, LLC, University Park Energy, LLC, Wallingford Energy LLC, West Deptford Energy, LLC, Gans Energy, LLC.

Description: Notification of Change in Status of the LS Northeast MBR Sellers.

Filed Date: 6/30/17.

Accession Number: 20170630-5477.

Comments Due: 5 p.m. ET 7/21/17.

Docket Numbers: ER11-2292-017; ER11-3942-016; ER11-2293-017; ER12-2447-015

Applicants: Brookfield Energy Marketing Inc., Brookfield Energy Marketing LP, Brookfield Energy Marketing US LLC, Brookfield Smoky Mountain Hydropower LLC.

Description: Updated Market Power Analysis for the Southeast Region of the Brookfiled Companies.

Filed Date: 6/30/17.

Accession Number: 20170630-5474.

Comments Due: 5 p.m. ET 8/29/17.

Docket Numbers: ER17-1622-001.

Applicants: J. Aron & Company LLC.

Description: Notice of Non-Material Change in Status of J. Aron & Company LLC.

Filed Date: 6/30/17.

Accession Number: 20170630-5476.

Comments Due: 5 p.m. ET 7/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2017.
Nathaniel J. Davis, Sr.,
Deputy Secretary.

[FR Doc. 2017-14877 Filed 7-14-17; 8:45 am]

BILLING CODE 6717-01-P